NUCLEAR REGULATORY COMMISSION

[Docket No. 52-033; NRC-2008-0566]

DTE Electric Company; Fermi 3

AGENCY: Nuclear Regulatory Commission.

ACTION: Combined license application; availability.

SUMMARY: On September 18, 2008, the U.S. Nuclear Regulatory Commission (NRC) received an application for a combined license (COL) submitted by Detroit Edison Company. The NRC published a notice of receipt and availability for an application for a COL in the Federal Register on October 17, 2008. In a letter dated December 21, 2013, the Detroit Edison Company notified the NRC that, effective January 1, 2013, the name of the company would be changed to “DTE Electric Company.” This notice is being published to make available to the public the application for a COL submitted by DTE Electric Company (Formerly the Detroit Edison Company). This is the second of four notices related to this action that will be published in the Federal Register. The first notice was published on April 9, 2014.

ADDRESSES: Please refer to Docket ID NRC-2008-0566 when contacting the NRC about the availability of information regarding this document. You may access publicly-available information related to this action by the following methods:

• Federal Rulemaking Web site: Go to http://www.regulations.gov and search for Docket ID NRC-2008-0566. Address questions about NRC dockets to Carol Gallagher; telephone: 301-287-3422; email: Carol.Gallagher@nrc.gov. For technical questions, contact the individual listed in the FOR FURTHER INFORMATION CONTACT section of this document.

• NRC's Agencywide Documents Access and Management System (ADAMS): You may obtain publicly available documents online in the ADAMS Public Documents collection at http://www.nrc.gov/reading-rm/adams.html. To begin the search, select “ADAMS Public Documents” and then select “Begin Web-based ADAMS Search.” For problems with ADAMS, please contact the NRC's Public Document Room (PDR) reference staff at 1-800-397-4209, 301-415-4737, or by email to pdr.resource@nrc.gov. The application for a combined license submitted by Detroit Edison Company and the letter notifying the NRC of the name change are available in ADAMS under Accession Nos. ML082730763 and ML12361A437.

• NRC's PDR: You may examine and purchase copies of public documents at the NRC's PDR, Room O1-F21, One White Flint North, 11555 Rockville Pike, Rockville, Maryland 20852.

FOR FURTHER INFORMATION CONTACT: Adrian Muñiz, Office of New Reactors, U.S. Nuclear Regulatory Commission, Washington, DC 20555-0001; telephone: 301-415-4093, email: Adrian.Muniz@nrc.gov.

SUPPLEMENTARY INFORMATION: On September 18, 2008, Detroit Edison Company (renamed DTE Electric Company as of January 1, 2013) filed with the NRC, pursuant to Section 103 of the Atomic Energy Act of 1954, as amended, and Part 52 of Title 10 of the Code of Federal Regulations (10 CFR), “Licenses, Certifications, and Approvals for Nuclear Power Plants,” an application for a COL for an economic simplified boiling-water reactor designated as Fermi 3 in Monroe County, Michigan. The NRC published a notice of receipt and availability for an application for a COL in the Federal Register on October 17, 2008 (73 FRN 61916). The application is currently under review by the NRC staff. On December 21, 2012, the Detroit Edison company sent the NRC a letter indicating that, effective January 1, 2013, the name of the company would be changed to “DTE Electric Company.”

An applicant may seek a COL in accordance with Subpart C of 10 CFR Part 52. The information submitted by the applicant includes certain administrative information, such as financial qualifications submitted pursuant to 10 CFR 52.77, as well as technical information submitted pursuant to 10 CFR 52.79. This notice is being provided in accordance with the requirements in 10 CFR 50.43(a)(3).

A copy of the application is available for public inspection at the NRC's PDR, and online in the ADAMS Public Documents collection at http://www.nrc.gov/reading-rm/adams.html. The application is also available at http://www.nrc.gov/reactors/new-reactors/col.html. Additional information about accessing the application and other publicly available documents related to the application, including revisions filed after the initial submission, are provided in the ADDRESSES section of this document.

Dated at Rockville, Maryland, this 7th day of April 2014.
For the Nuclear Regulatory Commission
Ronaldo Jenkins,
Chief, Licensing Branch 3, Division of New Reactor Licensing, Office of New Reactor.

[FR Doc. 2014-08545 Filed 4-15-14; 8:45 am]

BILLING CODE 7590-01-P